DEPARTMENT OF JUSTICE

Notice of Lodging of Proposed Consent Decree Under the Resource Conservation and Recovery Act and Clean Air Act

On January 14, 2013, the Department of Justice lodged a proposed Consent Decree with the United States District Court for the District of the Virgin Islands in the lawsuit entitled United States v. Government of the Virgin Islands, et al., Civil Action No. 3:10-cv-48.

In this action the United States seeks, among other things, injunctive relief and civil penalties for the failure by the Government of the Virgin Islands (“GVI”) and the Virgin Islands Waste Management Authority (“WMA”) to operate the Anguilla Landfill on St. Croix in compliance with the Resource Conservation and Recovery Act (“RCRA”) and the Clean Air Act (“CAA”). The proposed Consent Decree provides for the GVI and WMA to: (a) Operate and maintain the landfill in accordance with RCRA; (b) construct and operate a landfill gas collection and combustion system (GCCS); (c) construct and operate a storm water collection system; (d) install groundwater monitoring wells; (e) implement closure of the landfill in phases beginning in 2014; (f) remove and dispose of off-site used tires remaining at the landfill; (g) remove and dispose of off-site scrap metal remaining at the landfill; (h) remediate the soils in the former scrap metal storage area; (i) construct and operate a scrap metal management facility; (j) implement a waste diversion/recycling program; and (k) pay a civil penalty of $50,000.

The publication of this notice opens a period for public comment on the Consent Decree. Comments should be addressed to the Assistant Attorney General, Environment and Natural Resources Division, and should refer to United States v. Government of the Virgin Islands, et al., D.J. Ref. No. 90-5-2-1-08776. All comments must be submitted no later than 30 days after the publication date of this notice. Comments may be submitted either by email or by mail:

To submit comments— | Send them to—
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Ronald G. Gluck,
Assistant Section Chief, Environmental Enforcement Section, Environment and Natural Resources Division.

[FR Doc. 2013-01103 Filed 1-18-13; 8:45 am]

BILLING CODE 4410-15-P